DEPARTMENT OF TRANSPORTATION

Office of the Secretary

Notice of Applications for Certificates of Public Convenience and Necessity and Foreign Air Carrier Permits Filed Under Subpart B (Formerly Subpart Q) During the Week Ending November 29, 2002

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2002-13937.

Date Filed: November 25, 2002.

Due Date for Answers, Conforming Applications, or Motion to Modify Scope: December 16, 2002.

Description: Application of Cool Tours, Inc. d/b/a San Juan Aviation, pursuant to 49 U.S.C. Section 41738 and Subpart B, requesting authority to conduct scheduled passenger operations as a commuter air carrier.

Dorothy Y. Beard,
Federal Register Liaison.

[FR Doc. 02-31044 Filed 12-6-02; 8:45 am]

BILLING CODE 4910-62-P